DEPARTMENT OF HEALTH AND HUMAN SERVICES

Centers for Disease Control and Prevention

[60Day-08-08BI]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Maryam I. Daneshvar, CDC Acting Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Evaluation of the National Youth Violence Prevention Resource Center (NYVPRC)—New—National Center for Injury Prevention and Control (NCIPC), Centers for Disease Control and Prevention (CDC).

Background and Brief Description

The origin of the National Youth Violence Prevention Resource Center (NYVPRC) is woven into the federal response to the Columbine High School shootings in 1999. As the Nation took a broad look at the issue of violence occurring in school settings, it became clear that violence among adolescents stretched far beyond the walls of educational institutions and presented a complex threatening public health concern requiring a comprehensive response. To that end, the White House established the Council on Youth Violence in October 1999 to coordinate youth violence prevention activities of all federal agencies. The Council, in collaboration with CDC and other federal agencies, directed the development of NYVPRC to serve as a user-friendly, single point of entry to potentially life-saving information about youth violence prevention.

Since 1999, a substantial body of evidence has evolved to support the belief that youth violence can be prevented through the comprehensive, systematic application of effective approaches. A better understanding of the key influencers on the prevention of youth violence has emerged.1 2 3 Armed with this greater understanding, the NYVPRC's role has been refocused to better position it to respond to emerging needs.

¹ Centers for Disease Control and Prevention. (1999). Ten great public health achievements—United States, 1900-1999. Morbidity and Mortality Weekly Report, 48, 241-243.

² Mercy, J. A., Rosenberg, M. L., Powell, K. E., Broome, C. V., & Roper, W. L. (1993). Public health policy for preventing violence. Health Affairs, 12, 7-26.

³ Mercy J, Butchart A, Farrington D, Cerdá M. Youth violence. In: Krug E, Dahlberg LL, Mercy JA, Zwi AB, Lozano R, editors. The World Report on Violence and Health. Geneva (Switzerland): World Health Organization; 2002. p. 25-56.

This project will evaluate a pilot implementation of the revised NYVPRC Web site. The revised Web site will target local government and community leaders with youth violence-related online training, information resources and community workspace to build and sustain comprehensive, community-wide prevention efforts. The objectives of the NYVPRC pilot project are to determine (1) the usefulness and favorability of the online training, information resources and community workspaces, (2) the reach of targeted promotional efforts, and (3) progress made on short term outcomes. Four data collection tools will be used to measure these objectives: (1) User feedback surveys, (2) training surveys, (3) implementation interviews and (4) coalition capacity surveys.

User feedback surveys will elicit responses from users at various points on the NYVPRC Web site by inviting them via a pop-up window to complete an online survey that will take 5 minutes to complete. All questions will be closed-ended and intended to gather feedback on customer satisfaction regarding the various Web site functions. It is expected that each set of data will be collected from up to 15 different groups of individuals over a three year period. For each group, the response period will continue until a pre-determined number of surveys has been met therefore an 80 percent response rate is not a goal. The sample will not be representative of the entire population.

The training surveys will be conducted during the online training available through the Web site to assess satisfaction with and knowledge gained from the training. The training survey questions will be woven into three training modules that will be hosted on the Web site. Data will be collected electronically and, in total, the survey will take 15 minutes to complete.

Implementation interviews and coalition capacity surveys will be required as a criteria for participation in the pilot. The implementation interviews will be conducted with all coalition leaders invited to participate in the pilot project. Interviews will be conducted by phone using open-ended questions to determine coalition strengths, weaknesses, and barriers to coalition building and strategic planning efforts. Each interview will take 30 minutes. The capacity building surveys will be conducted with all members of the pilot project coalitions. These surveys will determine changes in the capacity of partner organizations associated with pilot coalitions and are expected to take 30 minutes to complete. The implementation interviews and coalition capacity surveys will be conducted at the beginning of the pilot period as a baseline measure and again at the end of the 12-month pilot period. The baseline information will assist CDC in tailoring technical assistance that might be required by the pilot communities. The evaluation will then utilize these baseline measures along with the information collected during the pilot to assess the Web site's success at supporting the development of community-wide youth violence prevention coalitions and subsequent strategic planning.

The pre-post research design of the evaluation will aid CDC in assessing the changes in knowledge, attitudes, and resource capacity associated with the NYVPRC Web site and will inform revision of the Web site materials for a future nationwide launch. There is no cost to respondents for any of these surveys.

Estimated Annualized Burden Hours
Respondents | Number of respondents | Number of responses per respondent | Average burden per response (in hours) | Total burden (in hours)
Online Training Survey | 400 | 1 | 15/60 | 100
User Feedback Survey | 1000 | 1 | 5/60 | 83
Partner Survey | 120 | 2 | 30/60 | 120
Coalition Capacity Survey | 50 | 2 | 30/60 | 50
Total |  |  |  | 353

Dated: July 24, 2008.
Maryam I. Daneshvar,
Acting Reports Clearance Officer, Centers for Disease Control and Prevention.

[FR Doc. E8-17601 Filed 7-31-08; 8:45 am]

BILLING CODE 4163-18-P